NATIONAL CREDIT UNION ADMINISTRATION

Privacy Act of 1974; System of Records

AGENCY: National Credit Union Administration (NCUA).

ACTION: Notice of a new system of records.

SUMMARY: Pursuant to the Privacy Act of 1974, the National Credit Union Administration (NCUA) gives notice of a new proposed Privacy Act system of records. The new system is NCUA-28, Anti-Harassment Case Tracking and Records. This system will maintain information collected for the purpose of conducting internal investigations into allegations of harassment brought by NCUA employees and NCUA contractors and taking appropriate action(s). Information is collected directly from the individual with their consent.

DATES: Submit comments on or before July 10, 2023. This system will be effective immediately, and routine uses will be effective on July 10, 2023.

ADDRESSES: You may submit comments by any of the following methods, but please send comments by one method only:

• Federal eRulemaking Portal: https://www.regulations.gov. Follow the instructions for submitting comments.

• Fax: (703) 518-6319. Include “[Your Name]—Comments on New System of Records, NCUA-28” in the transmittal.

• Mail: Address to Melane Conyers-Ausbrooks, Secretary of the Board, National Credit Union Administration, 1775 Duke Street, Alexandria, Virginia 22314-3428.

• Hand Delivery/Courier: Same as mail address.

FOR FURTHER INFORMATION CONTACT: Elizabeth Fischmann, Chief Ethics Counsel, Donald Names, Anti-Harassment Coordinator, Office of Ethics Counsel, or Linda Dent, Senior Agency Official for Privacy, the National Credit Union Administration, 1775 Duke Street, Alexandria, Virginia, 22314.

SUPPLEMENTARY INFORMATION: Pursuant to the Privacy Act, 5 U.S.C. 552a, the NCUA is establishing a new system of records, NCUA-28, Anti-Harassment Case Tracking and Records. This new system will support the prevention of and investigations into alleged harassment in the NCUA workspace. The NCUA is committed to equal employment opportunity and a workplace free of unlawful discriminatory harassment or any other category of harassment.

The format of NCUA-28 aligns with the guidance set forth in Office of Management and Budget (OMB) Circular A-108.

By the National Credit Union Administration Board.
Melane Conyers-Ausbrooks,
Secretary of the Board.

SYSTEM NAME AND NUMBER:

Anti-Harassment Case Tracking and Records, NCUA-28.

SECURITY CLASSIFICATION

Unclassified.

SYSTEM LOCATION:

National Credit Union Administration, 1775 Duke Street, Alexandria, Virginia 22314-3428.

SYSTEM MANAGER:

Anti-Harassment Coordinator, Office of Ethics Counsel, National Credit Union Administration, 1775 Duke Street, Alexandria, VA 22314-3428.

AUTHORITY FOR MAINTENANCE OF THE SYSTEM:

12 U.S.C. 1751, et seq.; Title VII of the Civil Rights Act of 1964, 42 U.S.C. 2000e, et seq.; Age Discrimination in Employment Act of 1967, 29 U.S.C. 621, et seq.; Americans with Disabilities Act, 42 U.S.C. 12101, et seq., including ADA Amendments Act of 2008; Rehabilitation Act of 1973 (Section 501), 29 U.S.C. 791; Notification and Federal Employee Antidiscrimination and Retaliation Act of 2002 (No FEAR Act), Public Law 107-174; Genetic Information Nondiscrimination Act of 2008 (GINA), Public Law 110-233; Executive Order 13087; Executive Order 13152; and further amendments to Executive Order 11478, Executive Order 11246, and EEOC Enforcement Guidance: Vicarious Employer Liability for Unlawful Harassment by Supervisors, Notice 915.002, V.C.1 (June 18, 1999).

PURPOSE(S) OF THE SYSTEM:

The information in the system is collected to assist the NCUA with conducting internal investigations into allegations of harassment brought by NCUA employees and NCUA contractors and taking appropriate action(s) to address such allegations.

CATEGORIES OF INDIVIDUALS COVERED BY THE SYSTEM:

NCUA employees and NCUA contractors who have submitted complaints or reports of harassment or who have provided information related to an investigation of workplace harassment and NCUA employees and contractors who have been accused of harassment.

CATEGORIES OF RECORDS IN THE SYSTEM:

Records in the system include complaints of harassment, statements of witnesses, reports of investigation, investigator's and Chief Ethics Officer's findings and recommendations, final decisions and corrective action taken, and related correspondence and exhibits. These records include names of the alleged victim, harasser and witnesses, their contact information, and the specific circumstances relevant to the harassment.

RECORD SOURCE CATEGORIES:

The information in this system is collected directly from individuals.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside the NCUA as a routine use as follows:

1. To disclose information as necessary to any source from which additional information is requested in the course of processing a complaint or report of harassment.

2. To provide to the alleged harasser information in the event of a disciplinary hearing.

3. A record from a system of records may be disclosed as a routine use to an authorized appeal grievance examiner, formal complaints examiner, equal employment opportunity investigator, arbitrator, or other duly authorized official engaged in investigation or settlement of a grievance, complaint, or appeal filed by an employee. Further, a record from any system of records may be disclosed as a routine use to the Office of Personnel Management in accordance with the agency's responsibility for evaluation and oversight of federal personnel management.

4. If a record in a system of records indicates a violation or potential violation of civil or criminal law or a regulation, and whether arising by general statute or particular program statute, or by regulation, rule, or order, the relevant records in the system or records may be disclosed as a routine use to the appropriate agency, whether federal, state, local, or foreign, charged with the responsibility of investigating or prosecuting such violation or charged with enforcing or implementing the statute, rule, regulation, or order issued pursuant thereto.

5. A record from a system of records may be disclosed as a routine use to a member of Congress or to a congressional staff member in response to an inquiry from the congressional office made at the request of the individual about whom the record is maintained;

6. Records in a system of records may be disclosed as a routine use to the Department of Justice, when: (a) NCUA, or any of its components or employees acting in their official capacities, is a party to litigation; or (b) Any employee of NCUA in his or her individual capacity is a party to litigation and where the Department of Justice has agreed to represent the employee; or (c) The United States is a party in litigation, where NCUA determines that litigation is likely to affect the agency or any of its components, is a party to litigation or has an interest in such litigation, and NCUA determines that use of such records is relevant and necessary to the litigation, provided, however, that in each case, NCUA determines that disclosure of the records to the Department of Justice is a use of the information contained in the records that is compatible with the purpose for which the records were collected.

7. Records in a system of records may be disclosed as a routine use in a proceeding before a court or adjudicative body before which NCUA is authorized to appear: (a) when NCUA or any of its components or employees are acting in their official capacities; (b) where NCUA or any employee of NCUA in his or her individual capacity has agreed to represent the employee; or (c) where NCUA determines that litigation is likely to affect the agency or any of its components, is a party to litigation or has an interest in such litigation, and NCUA determines that use of such records is relevant and necessary to the litigation;

8. A record from a system of records may be disclosed as a routine use to contractors, experts, consultants, and the agents thereof, and others performing or working on a contract, service, cooperative agreement, or other assignment for NCUA when necessary to accomplish an agency function or administer an employee benefit program. Individuals provided information under this routine use are subject to the same Privacy Act requirements and limitations on disclosure as are applicable to NCUA employees;

9. A record from a system of records may be disclosed to appropriate agencies, entities, and persons when: (1) NCUA suspects or has confirmed that the security or confidentiality of information in the system of records has been compromised; (2) NCUA has determined that as a result of the suspected or confirmed compromise there is a risk of harm to economic or property interests, identity theft or fraud, or harm to the security or integrity of this system or other systems or programs (whether maintained by NCUA or another agency or entity) that rely upon the compromised information; and (3) the disclosure made to such agencies, entities, and persons is reasonably necessary to assist in connection with NCUA's efforts to respond to the suspected or confirmed compromise and prevent, minimize, or remedy such harm; and

10. To another Federal agency or Federal entity, when the NCUA determines that information from this system of records is reasonably necessary to assist the recipient agency or entity in: (1) responding to a suspected or confirmed breach; or (2) preventing, minimizing, or remedying the risk of harm to individuals, the recipient agency or entity (including its information systems, programs, and operations), the Federal Government, or national security, resulting from a suspected or confirmed breach.

POLICIES AND PRACTICES FOR STORAGE OF RECORDS:

Electronic records and backups are stored on secure servers, approved by the NCUA's Office of the Chief Information Officer (OCIO), and accessed only by authorized personnel.

POLICIES AND PRACTICES FOR RETRIEVAL OF RECORDS:

Records may be retrieved by any of the following: name of the individual who files a complaint or report of harassment, name of the alleged victim of harassment, if any, and name of the alleged harasser.

POLICIES AND PRACTICES FOR RETENTION AND DISPOSAL OF RECORDS:

Records are maintained and disposed of in accordance with the General Records Retention Schedules issued by the National Archives and Records Administration (NARA) or an NCUA records disposition schedule approved by NARA.

ADMINISTRATIVE, TECHNICAL, AND PHYSICAL SAFEGUARDS:

NCUA has implemented the appropriate administrative, technical, and physical controls in accordance with the Federal Information Security Modernization Act of 2014, Public Law 113-283, S. 2521, and the NCUA's information security policies to protect the confidentiality, integrity, and availability of the information system and the information contained therein. Access is limited only to individuals authorized through NIST-compliant Identity, Credential, and Access Management policies and procedures. The records are maintained behind a layered defensive posture consistent with all applicable Federal laws and regulations, including Office of Management and Budget (OMB) Circular A-130 and NIST Special Publication 800-37.

RECORD ACCESS PROCEDURES:

After an individual receives verification that they have a record in the system, per the notification procedure above, if they wish to access to their records, they should submit a written request to the Senior Agency Official for Privacy, NCUA, 1775 Duke Street, Alexandria, VA 22314, and provide the following information:

1. Full name.

2. Any available information regarding the type of record involved.

3. The address to which the record information should be sent.

4. You must sign your request.

Attorneys or other persons acting on behalf of an individual must provide written authorization from that individual for the representative to act on their behalf. Individuals requesting access must also comply with the NCUA's Privacy Act regulations regarding verification of identity and access to records (12 CFR 792.55).

CONTESTING RECORD PROCEDURES:

Individuals wishing to request an amendment to their records should submit a written request to the Senior Agency Official for Privacy, NCUA, 1775 Duke Street, Alexandria, VA 22314, and provide the following information:

1. Full name.

2. Any available information regarding the type of record involved.

3. A statement specifying the changes to be made in the records and the justification therefore.

4. The address to which the response should be sent.

5. You must sign your request.

Attorneys or other persons acting on behalf of an individual must provide written authorization from that individual for the representative to act on their behalf.

NOTIFICATION PROCEDURES:

Individuals wishing to learn whether this system of records contains information about them should submit a written request to the Senior Agency Official for Privacy, NCUA, 1775 Duke Street, Alexandria, VA 22314, and provide the following information:

1. Full name.

2. Any available information regarding the type of record involved.

3. The address to which the record information should be sent.

4. You must sign your request.

Attorneys or other persons acting on behalf of an individual must provide written authorization from that individual for the representative to act on their behalf. Individuals requesting access must also comply with the NCUA's Privacy Act regulations regarding verification of identity and access to records (12 CFR 792.55).

EXEMPTIONS PROMULGATED FOR THE SYSTEM:

This system is exempt under 5 U.S.C. 552a(k)(2) from subsections (c)(3), (d), (e)(1), (e)(4)(G), (e)(4)(H), (e)(4)(I) and (f) of the Act.

HISTORY:

This is a new system.

[FR Doc. 2023-12246 Filed 6-7-23; 8:45 am]

BILLING CODE P